DEPARTMENT OF TRANSPORTATION

Federal Motor Carrier Safety Administration

[Docket No. FMCSA-2000-7363]

Qualification of Drivers; Exemption Applications; Vision

AGENCY: Federal Motor Carrier Safety Administration (FMCSA), DOT.

ACTION: Notice of petitions and intent to grant applications for exemption; request for comments.

SUMMARY: This notice announces the FMCSA's preliminary determination to grant the applications of 70 individuals for an exemption from the vision requirements in the Federal Motor Carrier Safety Regulations (FMCSRs). Granting the exemptions will enable these individuals to qualify as drivers of commercial motor vehicles (CMVs) in interstate commerce without meeting the vision standard prescribed in 49 CFR 391.41(b)(10).

DATES: Comments must be received on or before August 24, 2000.

ADDRESSES: Your written, signed comments must refer to the docket number at the top of this document, and you must submit the comments to the Docket Clerk, U.S. DOT Dockets, Room PL-401, 400 Seventh Street, SW., Washington, DC 20590-0001. All comments will be available for examination at the above address between 9 a.m. and 5 p.m., e.t., Monday through Friday, except Federal holidays. Those desiring notification of receipt of comments must include a self-addressed, stamped envelope or postcard.

FOR FURTHER INFORMATION CONTACT: For information about the vision exemptions in this notice, Ms. Sandra Zywokarte, Office of Bus and Truck Standards and Operations, (202) 366-2987; for information about legal issues related to this notice, Ms. Judith Rutledge, Office of the Chief Counsel, (202) 366-2519, FMCSA, Department of Transportation, 400 Seventh Street, SW., Washington, DC 20590. Office hours are from 7:45 a.m. to 4:15 p.m., e.t., Monday through Friday, except Federal holidays.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara.

Background

Seventy individuals have requested an exemption from the vision requirement in 49 CFR 391.41(b)(10), which applies to drivers of CMVs in interstate commerce. Under 49 U.S.C. 31315 and 31136(e), the FMCSA (and previously the FHWA) may grant an exemption for a renewable 2-year period if it finds “such exemption would likely achieve a level of safety that is equivalent to, or greater than, the level that would be achieved absent such exemption.” Accordingly, the FMCSA has evaluated each of the 70 exemption requests on its merits, as required by 49 U.S.C. 31315 and 31136(e), and preliminarily determined that exempting these 70 applicants from the vision requirement in 49 CFR 391.41(b)(10) is likely to achieve a level of safety equal to, or greater than, the level that would be achieved without the exemption.

Qualifications of Applicants

1. Henry Wayne Adams

Mr. Henry Wayne Adams, 54, has been blind in his left eye since 1988 due to an accident. The best corrected visual acuity in his right eye is 20/20. He was examined in 1999 by an optometrist who stated, “In summation, his condition is stable and he should have sufficient vision to perform the necessary driving tasks required to operate a commercial vehicle.”

Mr. Adams has driven straight trucks for 6 years, accumulating 360,000 miles and tractor-trailer combination vehicles for 3 years, accumulating 135,000 miles. He holds an Alabama Class D license. His official driving record shows no accidents and no convictions of moving violations in a CMV for the past 3 years.

2. Willie F. Adams

Mr. Willie F. Adams, 43, has amblyopia in his right eye. His best corrected visual acuity is 20/20 in the left eye and 20/400 in the right eye. He was examined in 1999 by an optometrist who stated, “In my opinion, Fred Adams is capable of operating a commercial vehicle.”

Mr. Adams has driven straight trucks for 20 years, accumulating 1.6 million miles and tractor-trailer combination vehicles for 2 years, accumulating 130,000 miles. He holds an Alabama Class DM license. His official driving record shows no accidents and no convictions of moving violations in a CMV for the last 3 years.

3. Fernando Aguilera

Mr. Fernando Aguilera, 38, has amblyopia in his left eye. His best corrected visual acuity is 20/20+2 in the right eye and 20/200 in the left eye. He was examined in 2000 by an optometrist who stated, “It is my opinion that Mr. Aguilera has sufficient vision to perform the driving tasks required to operate a commercial motor vehicle.”

Mr. Aguilera has driven straight trucks for 11 years, accumulating 990,000 miles and tractor-trailer combination vehicles for 1 year, accumulating 90,000 miles. He holds a California Class A CDL. His official driving record shows no accidents and no convictions of moving violations in a CMV for the past 3 years.

4. Louis Edward Aldridge

Mr. Aldridge, 57, has amblyopia in his right eye. His best corrected visual acuity is 20/20 in the left eye and 20/200 in the right eye. He was examined in 1999 by an optometrist who stated, “There is no visual reason to keep Mr. Aldridge from safely driving a commercial vehicle.”

Mr. Aldridge has driven straight trucks for 20 years, accumulating 500,000 miles. He holds a Maryland Class CM license. His official driving record shows no accidents and no convictions of moving violations in a CMV for the past 3 years.

5. Larry Neal Arrington

Mr. Larry Neal Arrington, 54, has amblyopia in his left eye. His best corrected visual acuity is 20/20 in the right eye and 20/200 in the left eye. He was examined in 1999 by an optometrist who stated, “Vision of OD [right] is sufficient to perform the driving tasks required to operate a commercial vehicle.”

Mr. Arrington has driven straight trucks for 26.5 years, accumulating 795,000 miles. He holds a North Carolina Class B CDL. His official driving record shows no accidents and no convictions of moving violations in a CMV for the past 3 years.

6. David W. Ball

Mr. David W. Ball, 47, has had decreased vision in his right eye since an injury in 1966. His best corrected visual acuity is 20/20 in the left eye and 20/60 in the right eye. He was examined in 1999 by an ophthalmologist who stated, “Your examination is essentially unchanged from approximately one year ago and I see no reason that you cannot continue to perform your driving tasks as a commercial driver.”

Mr. Ball has driven straight trucks for 29 years, accumulating over 2.1 million miles. He holds a Missouri Class E commercial license. His official driving record shows no accidents and no convictions of moving violations in a CMV for the past 3 years.

7. Delbert Ronnie Bays

Mr. Delbert Ronnie Bays, 43, wears a prosthesis in his right eye as the result of an injury in 1971. The visual acuity in his left eye is 20/20, uncorrected. He was examined in 1999 by an ophthalmologist who stated, “In summary, the vision in his left eye is sufficient to perform the driving tasks required to operate a commercial vehicle.”

Mr. Bays has driven both straight trucks and tractor-trailer combination vehicles for 22 years, accumulating a total of 682,000 miles. He holds a Kentucky Class DMA CDL. His official driving record shows no accidents and no convictions of moving violations in a CMV for the last 3 years.

8. Rosa C. Beaumont

Ms. Rosa C. Beaumont, 53, has amblyopia in her right eye. Her best corrected visual acuity is 20/20 in the left eye and 20/400 in the right eye. She was examined in 1999 by an ophthalmologist who stated, “It is the examiner's opinion that the patient has sufficient vision to perform the driving tasks required to operate a commercial vehicle.”

Ms. Beaumont has driven buses for 8 years, accumulating 800,000 miles. She holds a Washington Class B CDL. Her official driving record shows no accidents and no convictions of moving violations in a CMV for the past 3 years.

9. Jerry A. Bechtold

Mr. Jerry A. Bechtold, 47, is blind in his right eye due to trauma and wears a prosthesis. His best corrected visual acuity is 20/20 in the left eye. He was examined in 1999 by an optometrist who stated, “Because of his successful history he should be able to perform the driving tasks required to operate a commercial vehicle.”

Mr. Bechtold has driven straight trucks for 25 years, accumulating over 1.2 million miles. He holds an Illinois Class B CDL. His official driving record shows no accidents and no convictions of moving violations in a CMV for the past 3 years.

10. Robert F. Berry

Mr. Robert F. Berry, 55, has amblyopia in his right eye. His best corrected visual acuity is 20/15 in the left eye and 20/200 in the right eye. He was examined in 1999 by an optometrist who stated, “It is my medical opinion that Robert F. Berry has sufficient vision to perform the tasks needed to operate a commercial vehicle.”

Mr. Berry has driven straight trucks for 23 years, accumulating over 620,000 miles. He holds a Maine Class B CDL. His official driving record shows one accident and no convictions of moving violations in a CMV. No citations were issued in the accident. Mr. Berry swerved to avoid a head-on collision with an oncoming vehicle in his lane.

11. James A. Bright

Mr. James A. Bright, 51, has amblyopia in his left eye. His best corrected visual acuity is 20/25− in the right eye and 20/60 in the left eye. He was examined in 2000 by an ophthalmologist who stated, “Due to the results of his exam, I believe he has sufficient vision to perform the driving tasks required to operate a commercial vehicle.”

Mr. Bright has driven straight trucks for 4 years, accumulating 20,000 miles and tractor-trailer combination vehicles for 27 years, accumulating over 890,000 miles. He holds a Texas Class A CDL. His official driving record shows no accidents and no convictions of moving violations in a CMV for the past 3 years.

12. Robert R. Buis

Mr. Robert R. Buis, 59, has had no functional vision in his left eye since childhood. His best corrected visual acuity is 20/25− in the right eye and no light perception in the left eye. He was examined in 1999 by an ophthalmologist who stated, “He has sufficient vision to perform driving tasks required to operate a commercial vehicle.”

Mr. Buis has driven straight trucks for 3 years, accumulating 3,000 miles. He has driven tractor-trailer combination vehicles for 40 years, accumulating over 2 million miles. He holds a Kentucky Class DA Operator/CDL license. His official driving record shows no accidents and no convictions of moving violations in a CMV for the past 3 years.

13. David Dominick Bungori

Mr. David Dominick Bungori, 45, has amblyopia in his left eye. His best corrected visual acuity is 20/20 in his right eye and 20/200 in his left eye. He was examined in 1999 by an optometrist who stated, “Medically Mr. Bungori may perform all driving tasks required for commercial vehicle operation.”

Mr. Bungori has driven tractor-trailer combination vehicles for 24 years, accumulating 792,000 miles. He holds a Maryland Class A CDL. His official driving record shows no accidents and no convictions of moving violations in a CMV for the last 3 years.

14. Ronzie L. Carroll

Mr. Ronzie L. Carroll, 57, has a macular scar in his left eye. His visual acuity is 20/20 in the right eye and 20/100 in the left eye. He was examined in 1999 by an optometrist who stated, “I believe the patient has adequate vision to operate a commercial vehicle.”

Mr. Carroll has driven tractor-trailer combination vehicles for 28 years, accumulating over 2 million miles. He holds a Georgia Class AM CDL. His official driving record shows no accidents and no convictions of moving violations in a CMV for the last 3 years.

15. Richard S. Carter

Mr. Richard S. Carter, 55, has amblyopia in his left eye. His best corrected visual acuity is 20/20 in the right eye and 20/100 in the left eye. He was examined in 1999 by an optometrist who stated, “It is my opinion that Mr. Carter has sufficient vision to perform the driving tasks required to operate a commercial vehicle.”

Mr. Carter has driven both straight trucks and tractor-trailer combination vehicles for 30 years, accumulating a total of more than 2.7 million miles. He holds a Florida Class A CDL. His official driving record for the past 3 years shows no accidents and one conviction for “Load dropping/shifting/escaping” in a CMV.

16. Lynn A. Childress

Mr. Lynn A. Childress, 52, has a retinal scar in his right eye as the result of a childhood injury. His best corrected visual acuity is 20/15-2 in the right eye and light perception in the left eye. He was examined in 1999 by an optometrist who stated, “Mr. Childress is certainly well adapted to his visual situation by now, and has been driving commercial vehicles safely within the Commonwealth of Virginia. With this in mind, I feel his vision is sufficient to perform the driving tasks required to operate a commercial vehicle.”

Mr. Childress has driven straight trucks for 20 years, accumulating over 1.4 million miles and tractor-trailer combination vehicles for 4 years, accumulating 400,000 miles. He holds a Virginia Class A CDL. His official driving record shows no accidents and no convictions of moving violations in a CMV for the last 3 years.

17. Kevin L. Cole

Mr. Kevin L. Cole, 48, is blind in his right eye as the result of trauma. The visual acuity is 20/15+2 in his left eye. He was examined in 1999 by an ophthalmologist who stated, “In my medical opinion I do not see any medical indications that would prohibit him from continuing to drive a commercial vehicle in the future.”

Mr. Cole has driven straight trucks for 30 years, accumulating 600,000 miles and tractor-trailer combination vehicles for 26 years, accumulating 390,000 miles. He holds a Missouri Class A CDL. His official driving record shows no accidents and no convictions of moving violations in a CMV for the past 3 years.

18. David R. Cox

Mr. David R. Cox, 42, has visual acuity of hand motion in his right eye due to ocular trauma. The visual acuity in his left eye is correctable to 20/20. He was examined in 1998 by an ophthalmologist who stated, “I certify that in my opinion he is capable of performing the driving tasks required to operate a commercial motor vehicle.”

Mr. Cox has driven tractor-trailer combination vehicles for 20 years, accumulating 2 million miles. He holds an Oregon Class A CDL. His official driving record shows no accidents and no convictions of moving violations in a CMV for the past 3 years.

19. Gerald Wade Cox

Mr. Gerald Wade Cox, 42, lost his left eye due to trauma when he was 12 years old. The best corrected visual acuity in his right eye is 20/15. He was examined in 1999 by an opthalmologist who stated, “Mr. Cox's vision is sufficient to perform commercial driving.”

Mr. Cox has driven straight trucks for 22 years, accumulating 77,000 miles and tractor-trailer combination vehicles for 11 years, accumulating 825,000 miles. He holds an Alabama Class AM license. His official driving record shows no accidents and one moving conviction for “Failure to obey traffic signal/light” in a CMV, for the last 3 years.

20. Dempsey Leroy Crawhorn, Jr.

Mr. Dempsey Leroy Crawhorn, Jr., 48, has amblyopia in his left eye. His best corrected visual acuity is 20/20 in the right eye and 20/50-2 in the left eye. He was examined in 2000 by an optometrist who stated, “In my opinion Mr. Crawhorn does have sufficient vision to operate a commercial vehicle.”

Mr. Crawhorn has driven tractor-trailer combination vehicles for 5 years, accumulating over 490,000 miles. He holds an Indiana operator's license. His official driving record shows no accidents or convictions of moving violations in a CMV for the past 3 years.

21. Thomas P. Cummings

Mr. Thomas P. Cummings, 56, has been blind in his right eye due to trauma for at least 8 years. The best corrected visual acuity is 20/20 in his left eye. He was examined in 1999 by an optometrist who stated, “I feel he has sufficient vision for a commercial vehicle.”

Mr. Cummings has driven tractor-trailer combination vehicles for 21 years, accumulating more than 1.8 million miles. He holds a Wisconsin Class ABCD CDL. His official driving record shows no accidents and one citation for operating while disqualified.

22. Cedric E. Foster

Mr. Cedric E. Foster, 50, has only light perception in his right eye due to injury. His best corrected visual acuity in the left eye is 20/20. He was examined in 1999 by an optometrist who stated, “In my medical opinion, Mr. Foster has sufficient vision to perform the driving tasks required to operate a commercial vehicle.”

Mr. Foster has driven straight trucks for 5 years, accumulating 100,000 miles and buses for 14 years, accumulating 224,000 miles. He holds an Illinois Class B CDL. His official driving history shows no accidents and no convictions of moving violations in a CMV for the past 3 years.

23. Rosalie A. Gifford

Ms. Rosalie A. Gifford, 62, has had central vision loss in her left eye since at least 1964. The cause is unknown. Her best corrected visual acuity is 20/20 in the right eye and 20/50 in the left eye. She was examined in 1999 by an optometrist who stated, “It is my opinion that this small central defect in Rosalie's left eye in no way affects her ability to operate a commercial vehicle.”

Ms. Gifford has driven buses for 13 years, accumulating 234,000 miles. She holds an Arizona Class B license. Her official driving record shows no accidents and no convictions of moving violations in a CMV for the last 3 years.

24. Eugene Anthony Gitzen

Mr. Eugene Anthony Gitzen, 37, is blind in his right eye as the result of an injury over 18 years ago. The best corrected visual acuity in his left eye is 20/20. He was examined in 1999 by an optometrist who stated, “In my professional medical opinion, Mr. Gitzen has sufficient vision to perform the driving tasks required to operate a commercial motor vehicle.”

Mr. Gitzen has driven both straight trucks and tractor-trailer combination vehicles for 17 years, accumulating a total of more than 850,000 miles. He holds a Minnesota Class A CDL. His official driving record shows no accidents and no convictions for moving violations in a CMV for the past 3 years.

25. Donald Grogan

Mr. Donald Grogan, 58, has amblyopia in his left eye. His best corrected visual acuity is 20/20 in the right eye and 20/400 in the left eye. Mr. Grogan was examined in 1999 by an ophthalmologist who stated, “Donald Grogan's vision is sufficient for driving a commercial vehicle.”

Mr. Grogan has driven tractor-trailer combination vehicles for 32 years, accumulating over 3.5 million miles. He holds an Alabama Class D license. His official driving record shows one accident and no convictions of moving violations in a CMV for the past 3 years. According to the accident report, the other vehicle involved failed to yield the right of way, causing Mr. Grogan to collide with it. Neither driver was charged in the accident.

26. Elmer Harper

Mr. Elmer Harper, 49, has been blind in his left eye since childhood due to injury. His visual acuity is 20/20 in the right eye. He was examined in 1999 by an ophthalmologist who stated, “It is my opinion that as far as Mr. Harper's vision goes, he should be able to operate a commercial vehicle.”

Mr. Harper has driven straight trucks for 30 years, accumulating 780,000 miles. He holds a Tennessee Class A CDL. His official driving record shows no accidents and no convictions of moving violations in a CMV for the past 3 years.

27. Peter L. Haubruck

Mr. Peter L. Haubruck, 53, has amblyopia in his left eye. His best corrected visual acuity is 20/20 in the right eye and 20/50 in the left eye. He was examined in 1999 by an ophthalmologist who stated, “It is my opinion that his vision is sufficient to operate a commercial vehicle.”

Mr. Haubruck has driven straight trucks for 28 years, accumulating more than 420,000 miles and tractor-trailer combination vehicles for 15 years, accumulating more than 75,000 miles. He holds a New Jersey Class A CDL. His official driving record shows no accidents and no convictions of moving violations in a CMV for the last 3 years.

28. Joe Marvin Hill

Mr. Joe Marvin Hill, 52, has amblyopia in his right eye. His best corrected visual acuity is 20/20 in the left eye and 20/200 in the right eye. He was examined in 1999 by an optometrist who stated, “It is my opinion that Mr. Hill has adequate central and peripheral vision to operate a commercial vehicle.”

Mr. Hill has driven tractor-trailer combination vehicles for 32 years, accumulating 3.8 million miles. He holds a Texas Class A CDL. His official driving record shows no accidents and one conviction for a serious speeding violation in a CMV for the past 3 years.

29. Brian L. Houle

Mr. Brian L. Houle, 27, has a macular hole in his left eye due to trauma. His best corrected visual acuity is 20/10 in the right eye and 20/200 in the left eye. He was examined in 1999 by an optometrist who stated, “Brian Houle has sufficient vision to perform the driving tasks required to operate a commercial vehicle.”

Mr. Houle has driven straight trucks for over 5 years, accumulating over 125,000 miles. He holds a New York Class A CDL. His official driving record for the past 3 years shows no accidents and one conviction for “Unauthorized towing” in a CMV.

30. Christopher L. Humphries

Mr. Christopher L. Humphries, 38, suffered an injury in his left eye as a child, causing a traumatic cataract. He underwent cataract extraction and lens implantation six years ago. Mr. Humphries' best corrected visual acuity is 20/20 in the right eye and 20/60 in the left eye. He was examined in 1999 by an optometrist who stated, “Although his left monocular vision is reduced to below standard, his binocular vision should be deemed safe for commercial drivers licensure.”

Mr. Humphries has driven straight trucks for 4.5 years, accumulating 162,000 miles. He holds a Texas Class B CDL. His official driving record shows no accidents or convictions of moving violations in a CMV for the past 3 years.

31. Craig C. Irish

Mr. Craig C. Irish, 42, has reduced visual acuity in his left eye as the result of trauma. His best corrected visual acuity is 20/20 in the right eye and 20/60 in the left eye. He was examined in 1999 by an ophthalmologist who stated, “I believe his current visual acuity and function is sufficient to safely operate commercially.”

Mr. Irish has driven straight trucks for 9 years, accumulating over 315,000 miles and tractor-trailer combination vehicles for 12 years, accumulating over 420,000 miles. He holds a Maine Class A CDL. His official driving record shows no accidents and no convictions of moving violations in a CMV for the past 3 years.

32. Donald R. Jackson

Mr. Donald R. Jackson, 50, has amblyopia in his right eye secondary to congenital corneal scarring. His best corrected visual acuity is 20/20 in his left eye and 20/400 in his right eye. He was examined by an optometrist in 1999 who stated, “It is my understanding that Mr. Jackson has maintained a commercial license for the last fifteen years without an accident. This would certainly imply to my professional judgment that he has sufficient vision to perform the driving tasks required to operate a commercial vehicle.”

Mr. Jackson has driven tractor-trailer combination vehicles for 15 years, accumulating over 1.4 million miles. He holds an Ohio Class A CDL. His official driving history shows no accidents and no convictions of moving violations in a CMV for the last 3 years.

33. Nelson V. Jaramillo

Mr. Nelson V. Jaramillo, 31, has amblyopia in his left eye. His best corrected visual acuity is 20/20 in the right eye and 20/200 in left eye. He was examined in 1999 by an ophthalmologist who stated, “In my opinion this patient is able to perform driving tasks required to operate commercial vehicles.”

Mr. Jaramillo has driven straight trucks for 9 years, accumulating 58,500 miles. He holds a Massachusetts Class D license. His official driving record shows no accidents and no convictions of moving violations in a CMV for the past 3 years.

34. Daryl A. Jester

Mr. Daryl A. Jester, 42, has been blind in his left eye since childhood and wears a prosthesis. His best corrected visual acuity is 20/20 in the right eye. He was examined in 2000 by an optometrist who stated, “I certify that patient has sufficient vision to perform the driving tasks required to operate a commercial vehicle.”

Mr. Jester has driven straight trucks for 22 years, accumulating 330,000 miles. He holds a Utah Class B CDL. His official driving record shows no accidents and no convictions of moving violations in a CMV for the last 3 years.

35. Joseph Vernon Johns

Mr. Joseph Vernon Johns, 37, has been blind in his right eye since 1992 as the result of an automobile accident. His visual acuity is 20/20 in the left eye, uncorrected. He was examined in 1999 by an optometrist who stated, “Based on my examination and the visual field performed on Mr. Johns, I certify that his vision is stable and my medical opinion is that he has sufficient vision to operate a commercial vehicle under normal conditions as per your requirements.”

Mr. Johns has driven straight trucks for 3 years, accumulating 45,000 miles and tractor-trailer combination vehicles for 11 years, accumulating 1.2 million miles. He holds a Louisiana Class A CDL. His official driving record shows one accident and no convictions for moving violations in a CMV for the past 3 years. Mr. Johns was not cited for the accident. He was struck from behind by the other vehicle involved. That driver was cited for following too closely.

36. Jimmie W. Judkins

Mr. Jimmie W. Judkins, 53, has amblyopia in his left eye. His best corrected visual acuity is 20/20 in the right eye and 20/60+ in the left eye. He was examined in 1999 by an ophthalmologist who stated, “He should have sufficient vision to perform the driving test required to operate a commercial vehicle.”

Mr. Judkins has driven straight trucks for 27 years, accumulating more than 1.3 million miles. He holds an Alabama Class AMV CDL. His official driving record shows no accidents and no convictions of moving violations in a CMV for the past 3 years. 9

37. Kurth A. Kapke

Mr. Kurth A. Kapke, 41, has amblyopia in his left eye. His best corrected visual acuity is 20/20 in the right eye and 20/100 in the left eye. He was examined in 1999 by an ophthalmologist who stated, “It is my opinion that Mr. Kapke's visual acuity should not change from his present level and that he is able to operate a commercial vehicle with his spectacles.”

Mr. Kapke has driven straight trucks for 6 years, accumulating 312,000 miles. He holds a Wisconsin Class BCD CDL. His official driving record shows no accidents and no convictions of moving violations in a CMV for the last 3 years.

38. Johnny M. Kruprzak

Mr. Johnny M. Kruprzak, 34, has decreased vision in his right eye due to injury. His best corrected visual acuity is 20/20 in the left eye and light perception in the right eye. He was examined in 2000 by an optometrist who stated, “In our opinion he is capable of driving a commercial vehicle without problems.”

Mr. Kruprzak has driven both straight trucks and tractor-trailer combination vehicles for 16 years, accumulating a total of more than 1.1 million miles. He holds an Ohio Class A CDL. His official driving record shows no accidents and no convictions of moving violations in a CMV for the past 3 years.

39. Charles R. Kuderer

Mr. Charles R. Kuderer, 50, has visual acuity of light perception in his right eye as the result of a childhood accident. His visual acuity is 20/20 in the left eye. He was examined in 1999 by an optometrist who stated, “With additional head movement to compensate for decreased right eye central vision Mr. Kuderer has sufficient vision to safely operate a commercial vehicle.”

Mr. Kuderer has driven straight trucks for 30 years, accumulating over 3.7 millions miles and tractor-trailer combination vehicles for 7 years, accumulating 350,000 miles. He holds a Wisconsin Class ABCD CDL. His official driving record shows one accident and no convictions for moving violations in a CMV for the past 3 years. There were no injuries and no citations given as a result of the accident. Mr. Kuderer was stopped in the left center lane waiting to make a left turn. The other vehicle involved stopped to the back left of Mr. Kuderer, assuming he was proceeding straight. The other vehicle hit Mr. Kuderer when he turned left.

40. Thomas D. Laws

Mr. Thomas D. Laws, 42, has amblyopia in his right eye. His best corrected visual acuity is 20/20 in the left eye and 20/50 in the right eye. He was examined in 1999 and his optometrist stated, “The patient is perfectly normal and capable of operating a commercial vehicle as far as the eyes are concerned.”

Thomas Laws has driven straight trucks for 11 years, accumulating over 220,000 miles and tractor-trailer combination vehicles for 15 years, accumulating more than 22,500 miles. He holds an Indiana Class A-XT CDL. His official driving record shows no accidents or convictions of moving violations in a CMV for the past 3 years.

41. Demetrio Lozano

Mr. Demetrio Lozano, 52, is blind in his right eye due to trauma. His visual acuity is 20/20 in the left eye. He was examined in 1999 by an optometrist who stated, “In my medical opinion Mr. Lozano has sufficient vision to perform the driving tasks required of him to operate a commercial vehicle.”

Mr. Lozano has driven straight trucks for 34 years, accumulating 1.7 millions miles and tractor-trailer combination vehicles for 24 years, accumulating 600,000 miles. He holds a Texas Class A CDL. His official driving record shows no accidents and no convictions of moving violations in a CMV for the past 3 years.

42. Wayne Mantela

Mr. Wayne Mantela, 31, has been blind in his left eye since birth due to a congenital cataract. His visual acuity in his right eye is 20/20 uncorrected. He was examined in 1999 by an ophthalmologist who stated, “Mr. Mantela should have no trouble operating a commercial vehicle.”

Mr. Mantela has driven straight trucks for 3.5 years, accumulating over 157,000 miles. He holds a Kentucky Class D license. His official driving record shows no accidents and no convictions of moving violations in a CMV for the past 3 years.

43. Kenneth D. May

Mr. Kenneth D. May, 51, has reduced central acuity in his left eye which has resulted from scarring in the center of the left eye as the result of a hemorrhage. His visual acuity is 20/20 in the right eye and 20/200 in the left eye. He was examined in 1999 by an ophthalmologist who stated, “He continues to have sufficient vision to perform the driving tasks required to operate commercial vehicles and he has been doing this safely and successfully since 1994.”

Mr. May has driven tractor-trailer combination vehicles for 31 years, accumulating over 3 million miles. He holds an Alabama Class AM CDL. His official driving record shows no accidents and no convictions of moving violations in a CMV for the last 3 years.

44. Jimmy R. Millage

Mr. Jimmy R. Millage, 55, has had a central vision defect in his left eye since childhood due to trauma. His visual acuity is 20/20 in the right eye and 20/100 in the left eye. He was examined in 2000 by an ophthalmologist who stated, “In my medical opinion and based upon the fact that the patient has had the same vision for almost 50 years and an excellent driving record since he began in 1988, he has sufficient vision to perform the driving tasks required to operate a commercial vehicle.”

Mr. Millage has driven tractor-trailer combination vehicles for 11 years, accumulating 924,000 miles. He holds a Texas Class A CDL. His official driving record shows no accidents and no convictions for moving violations in a CMV for the past 3 years.

45. Harold J. Mitchell

Mr. Harold J. Mitchell, 50, has amblyopia in his left eye. His best corrected visual acuity is 20/20 in the right eye and 20/100 in the left eye. He was examined in 1999 by an optometrist who stated, “It is my opinion that Mr. Harold Mitchell has sufficient vision to perform the driving tasks required to operate a commercial vehicle.”

Mr. Mitchell has driven straight trucks for 30 years, accumulating 1,500,000 miles and tractor-trailer combination vehicles for 24 years, accumulating 1,440,000 miles. He holds a Nevada Class AM license. His official driving record shows no accidents and no convictions of moving violations in a CMV for the last 3 years.

46. Gordon L. Nathan

Mr. Gordon L. Nathan, 56, has amblyopia in his left eye. His best corrected visual acuity is 20/15 in the right eye and 20/100 in the left eye. He was examined by an optometrist in 1999 who stated, “Mr. Nathan has sufficient vision to perform the driving tasks required to operate a commercial vehicle.”

Mr. Nathan has driven straight trucks for 42 years, accumulating 630,000 miles and tractor-trailer combination vehicles for 3.75 years, accumulating 37,500 miles. He holds a California Class AM1 CDL. His official driving record shows no accidents and no convictions of moving violations in a CMV for the last 3 years.

47. Jerry L. New

Mr. Jerry L. New, 52, has a corneal scar in his right eye. His best corrected visual acuity is 20/20 in his left eye and 20/200 in his right eye. He was examined in 2000 by an optometrist who stated, “It is my opinion that Mr. Jerry New has sufficient vision to perform the driving tasks required to operate a commercial vehicle.”

Mr. New has driven tractor-trailer combination vehicles for 5 years, accumulating 300,000 miles. He holds a Mississippi Class A CDL. His official driving record shows no accidents and no convictions of moving violations in a CMV for the last 3 years.

48. Bernice Ray Parnell

Mr. Bernice Ray Parnell, 65, has choroidal melanoma in his left eye. His best corrected visual acuity is 20/20 in the right eye and 20/400 in the left eye. He was examined by an optometrist in 1999 who stated, “In my opinion, Mr. Parnell has sufficient vision to perform the driving tasks required to operate a commercial vehicle.”

Mr. Parnell has driven tractor-trailer combination vehicles for 42 years, accumulating over 5 million miles. He holds a North Carolina Class A CDL. His official driving record shows no accidents and no convictions of moving violations in a CMV for the past 3 years.

49. Aaron Pennington

Mr. Aaron Pennington, 73, is blind in his left eye and wears a prosthesis. His best corrected visual acuity is 20/25 in the right eye. He was examined in 1999 by an ophthalmologist who stated, “In my medical opinion, Mr. Pennington does have sufficient vision to perform the driving tasks required to operate a commercial vehicle.”

Mr. Pennington has driven straight trucks for 59 years, accumulating 885,000 miles and tractor-trailer combination vehicles for over 25 years, accumulating over 2.4 million miles. He holds a California Class A CDL. His official driving record shows no accidents and no convictions of moving violations in a CMV for the last 3 years.

50. Clifford C. Priesmeyer

Mr. Clifford C. Priesmeyer, 51, suffered trauma to his left eye in 1964 leaving visual acuity in that eye of 20/400. His best corrected visual acuity in the right eye is 20/20-1. He was examined in 1999 by an optometrist who stated, “Although Mr. Priesmeyer's central vision is decreased in his left eye, his 20/20 vision in his right eye and unobstructed field of vision in both eyes, should allow him to operate a commercial vehicle without any difficulties.”

Mr. Priesmeyer has driven straight trucks for 5 years, accumulating 50,000 miles and tractor-trailer combination vehicles for 34 years, accumulating 1.7 million miles. He holds a Texas Class AM CDL. His official driving record shows no accidents and no convictions of moving violations in a CMV for the past 3 years.

51. George S. Rayson

Mr. George S. Rayson, 36, has macular degeneration in the left eye with retinal scarring. His visual acuity is 20/20 in the right eye and 20/400 in the left eye. He was examined in 1999 by an ophthalmologist who stated, “This young man has been a driver for this company for which he works for a number of years and has proven to be a competent, careful driver with no history of any prior accidents. He is a valuable employee of this company and needs to continue in the capacity of a driver and it is my opinion that he has adequate vision for driving safely.”

Mr. Rayson has driven straight trucks for 20 years, accumulating 104,000 miles and tractor-trailer combination vehicles for 18 years, accumulating 630,000 miles. He holds an Ohio Class A CDL. His official driving record shows no accidents and 1 conviction of a violation in a CMV for the past 3 years. The conviction was for “Expiration/no drivers license.”

52. Kevin D. Reece

Mr. Kevin D. Reece, 29, has amblyopia in his right eye. His best corrected visual acuity is 20/20 in the left eye and 20/100 in the right eye. He was examined in 1999 by an optometrist who stated, “Due to Mr. Reece's long standing amblyopia; I feel that he would have no trouble driving a commercial vehicle or any other vehicle for that matter since this is the only vision he has ever known and he should get along quite nicely.”

Mr. Reece has driven straight trucks for 8 years, accumulating over 140,000 miles and tractor-trailer combination vehicles for 6 months, accumulating 500 miles. He holds a Tennessee Class B CDL. His official driving record shows no accidents and no convictions of moving violations in a CMV for the last 3 years.

53. Franklin Reed

Mr. Franklin Reed, 58, has amblyopia in his right eye. His best corrected visual acuity is 20/20 in the left eye and 20/80 in the right eye. He was examined in 1999 by an ophthalmologist who stated, “It is my medical opinion that Mr. Reed has sufficient vision to perform the driving tasks required to operate a commercial vehicle.”

Mr. Reed has driven straight trucks for 2.5 years, accumulating 125,000 miles and tractor-trailer combination vehicles for 35 years, accumulating 350,000 miles. He holds a North Carolina Class A CDL. His official driving record shows no accidents and no convictions of moving violations in a CMV for the past 3 years.

54. Arthur A. Sappington

Mr. Arthur A. Sappington, 57, has amblyopia in his left eye. The best corrected visual acuity is 20/20 in his right eye and 20/800 in his left eye. He was examined by an optometrist in 1999 who stated, “It is my opinion that Mr. Sappington can operate a commercial vehicle safely, as he has safely done for the past 30 years.”

Mr. Sappington has driven straight trucks for 39 years, accumulating over 1.1 million miles. He holds an Indiana Class B CDL. His official driving record shows no accidents and no convictions of moving violations in a CMV for the past 3 years.

55. James L. Schneider

Mr. James L. Schneider, 58, has a history of extremely poor vision in the right eye from neovascular glaucoma from Sturge-Weber syndrome. His best corrected visual acuity is 20/20 in the left eye and light perception in the right eye. He was examined in 1999 by an ophthalmologist who stated, “Based on the patient's history of having driven a commercial vehicle for many years with, reportedly, no accidents all while having essentially no vision in the right eye, it appears evident, in my medical opinion, that the patient has sufficient vision to perform the driving tasks required to operate a commercial vehicle.”

Mr. Schneider has driven tractor-trailer combination vehicles for 12 years, accumulating 1.2 million miles. He holds a New Mexico Class A CDL. His official driving record shows no accidents and one non-serious speeding violation in a CMV for the past 3 years.

56. Patrick W. Shea

Mr. Patrick W. Shea, 47, is blind in his left eye due to a childhood injury. His visual acuity is 20/20 in the right eye. He was examined in 1999 by an ophthalmologist who stated, “It is my medical opinion that Mr. Shea has sufficient vision to perform the driving tasks required to operate a commercial vehicle and currently has no medical conditions related to the eyes.”

Mr. Shea has driven straight trucks for 20 years, accumulating 600,000 miles. He holds a Massachusetts Class D license. His official driving record shows no accidents and no convictions of moving violations in a CMV for the past 3 years.

57. Carl B. Simonye

Mr. Carl B. Simonye, 48, has amblyopia in his left eye, as well as an old injury which caused scar tissue to form in the macular area. His best corrected visual acuity is 20/20 in the right eye and count fingers at 3 feet in the left eye. He was examined by an ophthalmologist in 1999 who stated, “In my medical opinion, patient has sufficient vision to operate a commercial vehicle.”

Mr. Simonye has driven both straight trucks and tractor-trailer combination vehicles for 30 years, accumulating a total of 105,000 miles. He holds a New Jersey Class A CDL. His official driving record shows no accidents and no convictions of moving violations in a CMV for the past 3 years.

58. Ernie Sims

Mr. Ernie Sims, 46, has been blind in his right eye since birth. His best corrected visual acuity is 20/20 in the left eye and light perception in the right eye. He was examined in 1999 by an optometrist who stated, “This patient has sufficient vision to drive a commercial vehicle.”

Mr. Sims has driven both straight trucks and tractor-trailer combination vehicles for 10 years, accumulating a total of 50,000 miles. He holds a South Carolina Class A CDL. His official driving record shows no accidents and no convictions of moving violations in a CMV for the past 3 years.

59. William H. Smith

Mr. William H. Smith, 42, has amblyopia in his left eye. His best corrected visual acuity is 20/20 in the right eye and 20/400 in the left eye. He was examined by an ophthalmologist in 1999 who stated, “It is my medical opinion that Mr. Smith has sufficient vision to perform the driving tasks required to operate a commercial vehicle.”

Mr. Smith has driven straight trucks for 3 years, accumulating more than 75,000 miles. He holds an Alabama Class DM license. His official driving record shows no accidents and no convictions of moving violations in a CMV for the past 3 years.

60. Paul D. Spalding

Mr. Paul D. Spalding, 49, has amblyopia in the left eye due to trauma at age 3. His best corrected visual acuity is 20/20 in the right eye and light perception only in the left eye. He was examined in 1999 by an optometrist who stated, “As he has operated a commercial vehicle safely for his entire working life I feel he has sufficient vision to operate a commercial vehicle.”

Mr. Spalding has driven tractor-trailer combination vehicles for 27 years, accumulating over 2.3 million miles. He holds a Texas Class A CDL. His official driving record for the last 3 years shows no accidents and one conviction for a non-serious speeding violation in a CMV.

61. Richard Allen Strange

Mr. Richard Allen Strange, 47, has amblyopia in his right eye. His best corrected visual acuity is 20/15 in the left eye and 20/50-1 in the right eye. He was examined in 1999 by an ophthalmologist who stated, “It is my opinion that Richard Strange is capable of operating a commercial vehicle.”

Mr. Strange has operated straight trucks for 1 year, accumulating 10,000 miles and tractor-trailer combination vehicles for 8 years, accumulating 400,000 miles. He holds a Texas Class A CDL. His official driving record shows no accidents and no convictions of moving violations in a CMV for the past 3 years.

62. Steven Carter Thomas

Mr. Steven Carter Thomas, 39, has a chorioretinal scar in his right eye due to an accident in 1991. While his vision is affected in one area, his best corrected visual acuity is 20/20 in the left eye and 20/25 in the right eye. He was examined by an ophthalmologist in 1998 who stated, “He has no disability that should prevent him from operating any type of vehicle.”

Mr. Thomas has driven tractor-trailer combination vehicles for over 13 years, accumulating more than 1.5 million miles. He holds an Arkansas Class A CDL. His official driving record shows no accidents and the conviction of one speeding violation in a CMV for the past 3 years.

63. George Walter Thornhill

Mr. George Walter Thornhill, 48, has a congenital coloboma of the retina in his left eye. His best corrected visual acuity is 20/20 in the right eye and 20/70 in the left eye. He was examined by an optometrist in 1999 who stated, “In my professional opinion, I feel Mr. Thornhill has sufficient vision to perform the driving tasks required to operate a commercial vehicle including tractor trailers.”

Mr. Thornhill has driven straight trucks for 31 years, accumulating more than 1.5 million miles. He holds an Alabama Class BM CDL. His official driving record shows no accidents and no convictions of moving violations in a CMV for the past 3 years.

64. Rick N. Ulrich

Mr. Rick N. Ulrich, 45, has amblyopia in his right eye. His best corrected visual acuity is 20/20 in the left eye and 20/400 in the right eye. He was examined in 1999 by an optometrist who stated, “I believe he has sufficient vision to perform the tasks required to operate a commercial vehicle.”

Mr. Ulrich has driven both straight trucks and tractor-trailer combination vehicles for 4.5 years, accumulating a total of 90,000 miles. He holds a Kentucky Class A CDL. His official driving record shows no accidents and no convictions of moving violations in a CMV for the last 3 years.

65. Roy F. Varnado

Mr. Roy F. Varnado, 43, has a macular scar in his left eye. His visual acuity is 20/20 in the right eye and 20/400 in the left eye. He was examined in 1999 by an ophthalmologist who stated, “Patient has small central field defect (~3°) affects central vision only, left eye; is stable; has sufficient vision to perform driving tasks for a commercial vehicle.”

Mr. Varnado has been driving both straight trucks and tractor-trailer combination vehicles for 25 years, accumulating a total of more than 625,000 miles. He holds a Louisiana Class D Chauffeur's License. His official driving record shows no accidents and no convictions of moving violations in a CMV for the past 3 years.

66. Henry Lee Walker

Mr. Henry Lee Walker, 48, has glaucoma in both eyes that is controlled by medication. His visual acuity is 20/25 in his right eye and counting fingers in the left eye. He was examined in 1999 by an ophthalmologist who stated, “I certify that in my medical opinion Mr. Walker has sufficient vision to perform the driving tasks required to operate a commercial vehicle as required by law.”

Mr. Walker has driven straight trucks for 9 years, accumulating over 540,000 miles and tractor-trailer combination vehicles for 14 years, accumulating over 840,000 miles. He currently holds a Louisiana personal driver's license. His official driving record shows no accidents and one speeding conviction in a CMV for the past 3 years. The speeding conviction was a non-serious violation.

67. Larry D. Wedekind

Mr. Larry D. Wedekind, 55, has amblyopia in his left eye. His best corrected visual acuity is 20/20 in the right eye and 20/200 in the left eye. He was examined by an optometrist in 1999 who stated, “Patient has sufficient vision to perform driving tasks to operate commercial vehicle.”

Mr. Wedekind has driven straight trucks for 2 years, accumulating 100,000 miles and tractor-trailer combination vehicles for 22 years, accumulating over 1.9 million miles. He holds a Texas Class A CDL. His official driving record shows no accidents and one conviction of a violation (Speed Less than Minimum) in a CMV for the last 3 years.

68. Daniel Wilson

Mr. Daniel Wilson, 39, has amblyopia in his right eye. His best corrected visual acuity is 20/20 in the left eye and 20/400 in the right eye. He was examined by an ophthalmologist in 1999 who stated, “He has sufficient vision to perform the driving tasks required to operate a commercial vehicle.”

Mr. Wilson has driven straight trucks for 15 years, accumulating 735,000 miles. He holds an Illinois Class B CDL. His official driving record shows no accidents and no convictions of moving violations in a CMV in the last 3 years.

69. Emmett E. Windhorst

Mr. Emmett E. Windhorst, 54, has amblyopia in his left eye. His best corrected visual acuity is 20/20-1 in the right eye and 20/400 in the left eye. He was examined in 1999 by an optometrist who stated, “Because the vision in his other eye is so good, and because his job for the past few years has consisted of mostly driving, I believe that Mr. Windhorst has sufficient vision to perform the driving tasks required to operate a commercial vehicle.”

Mr. Windhorst has driven straight trucks for 6 years, accumulating 240,000 miles. He holds a Missouri Class E license. His official driving record shows no accidents and no convictions of moving violations in a CMV for the past 3 years.

70. Wonda Lue Wooten

Ms. Wonda Lue Wooten, 57, has open angle glaucoma in her left eye. Her best corrected visual acuity is 20/20 in the right eye and no light perception in the left eye. She was examined in 1999 by an ophthalmologist who stated, “Her vision is stable and she has sufficient vision in her right eye to perform the driving tasks required to operate a commercial vehicle.”

Ms. Wooten has driven tractor-trailer combination vehicles for 8 years, accumulating 800,000 miles. She holds a Texas Class A CDL. Her official driving record shows no accidents and one conviction in a CMV for “Failure to yield right of way to an emergency vehicle” for the past 3 years.

Basis for Preliminary Determination To Grant Exemptions

Independent studies support the principle that past driving performance is a reliable indicator of an individual's future safety record. The studies are filed in FHWA Docket No. FHWA-97-2625 and discussed at 63 FR 1524, 1525 (January 9, 1998). We believe we can properly apply the principle to monocular drivers because data from the vision waiver program clearly demonstrate the driving performance of monocular drivers in the program is better than that of all CMV drivers collectively. (See 61 FR 13338, March 26, 1996.) That monocular drivers in the waiver program demonstrated their ability to drive safely supports a conclusion that other monocular drivers, with qualifications similar to those required by the waiver program, can also adapt to their vision deficiency and operate safely.

The 70 applicants have qualifications similar to those possessed by drivers in the waiver program. Their experience and safe driving record operating CMVs demonstrate that they have adapted their driving skills to accommodate their vision deficiency. Since past driving records are reliable precursors of the future, there is no reason to expect these individuals to drive less safely after receiving their exemptions. Indeed, there is every reason to expect at least the same level of safety, if not a greater level, because the applicants can have their exemptions revoked if they compile an unsafe driving record.

For these reasons, the FMCSA believes exempting the individuals from 49 CFR 391.41(b)(10) is likely to achieve a level of safety equal to, or greater than, the level that would be achieved without the exemption as long as vision in their better eye continues to meet the standard specified in 391.41(b)(10). As a condition of the exemption, therefore, the FMCSA proposes to impose requirements on the individuals similar to the grandfathering provisions in 49 CFR 391.64(b) applied to drivers who participated in the agency's former vision waiver program.

These requirements are as follows: (1) That each individual be physically examined every year (a) by an ophthalmologist or optometrist who attests that vision in the better eye meets the standard in 49 CFR 391.41(b)(10), and (b) by a medical examiner who attests the individual is otherwise physically qualified under 49 CFR 391.41; (2) that each individual provide a copy of the ophthalmologist's or optometrist's report to the medical examiner at the time of the annual medical examination; and (3) that each individual provide a copy of the annual medical certification to his or her employer for retention in its driver qualification file or keep a copy in his or her driver qualification file if he or she becomes self-employed. The driver must also have a copy of the certification when driving so it may be presented to a duly authorized Federal, State, or local enforcement official.

In accordance with 49 U.S.C. 31315 and 31136(e), the proposed exemption for each person will be valid for 2 years unless revoked earlier by the FMCSA. The exemption will be revoked if: (1) The person fails to comply with the terms and conditions of the exemption; (2) the exemption has resulted in a lower level of safety than was maintained before it was granted; or (3) continuation of the exemption would not be consistent with the goals and objectives of 49 U.S.C. 31315 and 31136. If the exemption is effective at the end of the 2-year period, the person may apply to the FMCSA for a renewal under procedures in effect at that time.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may issue exemptions from the vision requirement to the 70 applicants and publish in the Federal Register a notice of final determination at any time after the close of the comment period. In addition to late comments, the FMCSA will also continue to file in the docket relevant information which becomes available after the closing date. Interested persons should continue to examine the docket for new material.

Authority: 49 U.S.C. 322, 31136 and 31315; 49 CFR 1.73.

Issued on: July 17, 2000.
Julie Anna Cirillo,
Acting Assistant Administrator, Federal Motor Carrier Safety Administration.

[FR Doc. 00-18775 Filed 7-24-00; 8:45 am]

BILLING CODE 4910-22-P